DEPARTMENT OF HEALTH AND HUMAN SERVICES

National Institutes of Health

National Institute on Alcohol Abuse and Alcoholism; Amended Notice of Meeting

Notice is hereby given of a change in the meeting of the Clinical, Treatment and Health Services Research Review Subcommittee, March 12, 2020, 8:30 a.m. to March 12, 2020, 5:00 p.m. at the National Institutes of Health, National Institute on Alcohol Abuse and Alcoholism, 6700B Rockledge Drive, Bethesda, MD 20817, which was published in the Federal Register on December 27, 2019, 84 FR 71436.

The contact person for the Clinical, Treatment and Health Services Research Review Subcommittee (AA 3) has changed from Ranga V. Srinivas, Ph.D. to Luis Espinoza, Ph.D., Scientific Review Officer, Extramural Project Review Branch, Office of Extramural Activities, National Institute on Alcohol Abuse and Alcoholism, 6700B Rockledge Drive, Room 2109, Bethesda, MD 20892, (301) 443-8599, espinozala@mail.nih.gov. The meeting is closed to the public.

Dated: February 20, 2020.
Miguelina Perez,
Program Analyst, Office of Federal Advisory Committee Policy.

[FR Doc. 2020-03712 Filed 2-24-20; 8:45 am]

BILLING CODE 4140-01-P